DEPARTMENT OF DEFENSE

Office of the Secretary

Proposed Collection; Comment Request

AGENCY: Office of the Under Secretary of Defense (Personnel and Readiness), DoD.

ACTION: Notice.

In compliance with Section 3506(c)(2)(A) of the Paperwork Reduction Act of 1995, the Office of the Under Secretary of Defense (Personnel Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by September 12, 2003.

ADDRESSES: Written comments and recommendations on the proposed information collection should be sent to the Office of the Under Secretary of Defense (Personnel and Readiness) (Military Personnel Policy)/Accession Policy, ATTN: Major Brenda Leong, 4000 Defense Pentagon, Washington, DC 20301-4000.

FOR FURTHER INFORMATION CONTACT: To request more information on this proposed information collection or to obtain a copy of the proposal and associated collection instruments, please write to the above address or call at (703) 695-5529.

Title Associated Form, and OMB Control Number: Police Record Check, DD Form 369, OMB Control Number: 0704-0007.

Needs and Uses: This information collection requirement is necessary to obtain information about arrests and criminal records on applicants to the Armed Forces of the United States. The DD Form 369, Police Record Check, is used to identify any disqualifying history regarding arrests or convictions.

Affected Public: State, local or Tribal Government.

Annual Burden Hours: 56,250.

Number of Respondents: 125,000.

Responses per Respondent: 1.

Average Burden per Response: 27 minutes.

Frequency: On occasion.

SUPPLEMENTARY INFORMATION:

Summary of Information Collection

This information is collected to provide the Armed Services with background information on an applicant. History of criminal activity, arrests, or confinement is disqualifying for military service. The respondents will be local and state law enforcement agencies. The DD Form 369, Police Record Check, is the method of information collection; responses are to reference any records on the applicant. The information will be used to determine suitability of the applicant for the military service.

Dated: July 8, 2003.
Patricia L. Toppings,
Alternate OSD Federal Register Liaison Officer, Department of Defense.

[FR Doc. 03-17721 Filed 7-11-03; 8:45 am]

BILLING CODE 5001-08-M